DEPARTMENT OF THE INTERIOR

National Park Service

Notice of Inventory Completion: U.S. Department of Defense, Army Corps of Engineers, Walla Walla District, Walla Walla, WA and Museum of Anthropology, Washington State University, Pullman, WA

AGENCY: National Park Service, Interior.

ACTION: Notice.

Notice is here given in accordance with the Native American Graves Protection and Repatriation Act (NAGPRA), 25 U.S.C. 3003, of the completion of an inventory of human remains and associated funerary objects in the control of the U.S. Department of Defense, Army Corps of Engineers, Walla Walla District, Walla Walla, WA, and in the physical custody of the Museum of Anthropology, Washington State University, Pullman, WA. The human remains and associated funerary objects were removed from the Marmes Rockshelter (45FR50) in Franklin County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the U.S. Department of Defense, Army Corps of Engineers professional staff in consultation with representatives of the Confederated Tribes of the Colville Reservation, Washington; Confederated Tribes of the Umatilla Indian Reservation, Oregon; Confederated Tribes and Bands of the Yakama Nation, Washington; Nez Perce Tribe, Idaho; and the Wanapum Band, a non-Federally recognized Indian group.

In 1962, 1963, 1964, and 1968, human remains representing a minimum of 45 individuals were removed from the Marmes Rockshelter (45FR50) in Franklin County, WA. The Marmes Rockshelter was excavated between 1962 and 1964 by Washington State University under contract with the National Park Service. In 1968, Washington State University conducted additional excavations under contract with the U.S. Army Corps of Engineers. Some human remains were encased in plaster casts during the excavations and transported to the laboratory at Washington State University. Excavations of the plaster casts were conducted at the laboratory until 1974. Material from all excavations is curated at Washington State University. During the excavations and subsequent analyses of the human remains from the Marmes Rockshelter site, human remains were given burial numbers or other designations including Burials 1 to 12, Burials 14 to 22, Small Unnumbered Cast, Rice Burial 05, MCX 1, Feature 64-6, and non-cremation rockshelter remains. No known individuals were identified. The 2,047 associated funerary objects (i.e., 2,020 counted items and 27 lots of items) are 2 antler pieces; 8 bird bones; 49 fish bones; 752 mammal bones; 1 lot other bones; 13 other bones; 9 other modified bone/antler; 1 antler pendant; 1 basalt biface; 1 chert biface; 1 chert/cryptocrystalline biface; 1 obsidian biface; 1 basalt lanceolate point; 8 pieces of blocky basalt shatter; 10 pieces of blocky chert shatter; 31 pieces of blocky chert/cryptocrystalline shatter; 4 pieces of blocky obsidian shatter; 2 pieces of other stone blocky shatter; 1 basalt cobble core; 4 basalt cobble cores with no cutting edge; 1 other stone cobble core with cutting edge; 3 cobble spalls; 2 basalt cobble spalls with retouch; 1 basalt core; 1 chert core; 2 chert/cryptocrystalline cores; 1 chert endscraper; 3 chert/cryptocrystalline endscrapers; 43 pieces basalt flake debitage; 4 pieces of chert flake debitage; 45 pieces of chert/cryptocrystalline flake debitage; 12 pieces of obsidian flake debitage; 19 pieces of basalt flake shatter; 13 pieces of chert flake shatter; 42 pieces of chert or other cryptocrystalline flake shatter; 78 pieces of chert/cryptocrystalline shatter; 30 pieces of obsidian flake shatter; 1 piece quartzite flake shatter; 2 chert/cryptocrystalline flakes with bimarginal retouch; 2 chert flakes with retouch; 1 basalt flake with unimarginal retouch; 8 chert/cryptocrystalline flakes with unimarginal retouch; 3 obsidian flakes with unimarginal retouch; 1 chert/cryptocrystalline hafted drill; 7 basalt other bifaces; 2 chert/cryptocrystalline other bifaces; 5 basalt point tip or midsections; 10 basalt points; 2 chert points; 10 chert/cryptocrystalline points; 1 obsidian point; 1 chert point tip or midsection; 1 chert/cryptocrystalline point tip or midsection; 1 chert/cryptocrystalline lanceolate point; 1 abrader; 1 basalt groundstone mortar; 1 atlatl ground stone; 1 basalt other groundstone; 1 atlatl weight; 1 graphite bead; 1 stone ornament; 2 pieces of metal; 1 nail; 1 lot metal; 1 piece wood of possible arrow shaft; 125 faunal bone fragments; 7 faunal teeth; 1 lot mammal bone; 1 beaver tooth; 2 bear teeth; 4 rocks; 2 choke cherry pits; 1 mat; 32 other organic pieces (including plant); 4 pieces of wood; 23 organic seeds; 1 organic kidney stone?; 1 lot red ochre; 1 lot C14 or charcoal samples; 1 lot charcoal samples; 18 charcoal samples; 1 lot fine screen other samples; 70 pieces of ochre other stone samples; 1 lot of ochre other stone samples; 106 basalt samples; 1 lot other basalt samples; 19 basalt other (including rocks) samples; 1 lot other chert/cryptocrystalline samples; 1 lot other miscellaneous stone samples; 1 lot other other samples; 1 lot other other stone samples; 1 lot other other (including rocks) samples; 1 lot other other sample samples; 1 lot other sample other stone samples; 63 other other stone samples; 8 other other samples; 1 basalt anvil stone; 1 lot other dust with red ochre, bone, shell fragments; 1 basalt edged cobble; 1 lot soil samples; 81 shell beads; 1 lot shell beads; 17 Olivella shell beads; 1 lot snail shell remains; 154 pieces of shell remains; 1 lot Margaretifera shell remains; 1 lot Gonidea sp. shell remains; 1 lot Pelecypoda shell remains; 9 pieces of snail shell remains; 1 lot Unionacea shell remains; 1 lot shell remains; 1 lot other organic other (including plant); 1 lot other organic other (including plant), seeds; and 3 white stones.

The human remains in Burials 1 through 12, 14 through 22, the small Unnumbered Cast, MCX 1, Rice 05, 64-6, and the non-cremation rockshelter remains were determined to be Native American due to physical traits and the cultural items found with the human remains, which are similar to the materials found in archeological collections and in context with Native American burials in southeastern Washington.

Archeological evidence found in the Marmes Rockshelter (and in six nearby archeological sites) supports a nearly continuous occupation from the Cascade Phase (8000-4500 BP) to the Harder Phase (2500-500 BP), and provides the most direct physical line of evidence supporting affiliation between an earlier group and a present-day Indian tribe. Geographical and anthropological lines of evidence support the archeological evidence of earlier group habitation in the same geographic location as the historic groups. Oral tradition evidence provided by tribal elders indicates a large Palus village, inhabited by tribal ancestors from time immemorial, was once located near the Marmes Rockshelter. Further, according to tribal elders, these ancestors were mobile, and traveled the landscape to gather resources as well as trade among each other.

Ethnographic documentation indicates that the present-day location of the Marmes Rockshelter in Franklin County, WA, is within the territory occupied historically by the Palus (Palouse) Indians. During the historic period, the Palouse people settled along the Snake River, relied on fish, game and root resources for subsistence, shared their resource areas and maintained extensive kinship connections with other groups in the area, and had limited political integration until the adoption of the horse (Walker 1998). These characteristics are common to the greater Plateau cultural communities surrounding the Palouse territory including the Nez Perce, Cayuse, Walla Walla, Yakama, and Wanapum groups. Moreover, the information provided during consultation by representatives of the Confederated Tribes of the Colville Reservation, Washington; Confederated Tribes of the Umatilla Indian Reservation, Oregon; Confederated Tribes and Bands of the Yakama Nation, Washington; Nez Perce Tribe, Idaho; and the Wanapum Band, a non-Federally recognized Indian group, substantiates their cultural affiliation with each other and with the earlier group represented at the Marmes Rockshelter. The descendants of these Plateau communities of southeastern Washington, now widely dispersed, are members of the Confederated Tribes of the Colville Reservation, Washington; Confederated Tribes of the Umatilla Indian Reservation, Oregon; Confederated Tribes and Bands of the Yakama Nation, Washington; Nez Perce Tribe, Idaho; and the Wanapum Band, a non-Federally recognized Indian group.

Officials of the U.S. Department of Defense, Army Corps of Engineers, Walla Walla District have determined that, pursuant to 25 U.S.C. 3001 (9-10), the human remains described above represent the physical remains of 45 individuals of Native American ancestry. Officials of the U.S. Department of Defense, Army Corps of Engineers, Walla Walla District also have determined that, pursuant to 25 U.S.C. 3001 (3)(A), the 2,047 objects (2,020 individual counted items and 27 lots of items) described above are reasonably believed to have been placed with or near individual human remains at the time of death or later as part of the death rite or ceremony. Furthermore, officials of the U.S. Department of Defense, Army Corps of Engineers, Walla Walla District have determined that, pursuant to 25 U.S.C. 3001 (2), there is a relationship of shared group identity that can be reasonably traced between the Native American human remains and associated funerary objects and the Confederated Tribes of the Colville Reservation, Washington; Confederated Tribes of the Umatilla Indian Reservation, Oregon; Confederated Tribes and Bands of the Yakama Nation, Washington; and Nez Perce Tribe, Idaho. Lastly, officials of the U.S. Department of Defense, Army Corps of Engineers, Walla Walla District have determined that there is a cultural relationship between the Native American human remains and associated funerary objects and the Wanapum Band, a non-Federally recognized Indian group.

Representatives of any other Indian tribe that believes itself to be culturally affiliated with the human remains and/or associated funerary objects should contact Lieutenant Colonel Michael Farrell, U.S. Department of Defense, Army Corps of Engineers, Walla Walla District, 201 North Third Avenue, Walla Walla, WA 99362-1876, telephone (509) 527-7700, before September 21, 2009. Repatriation of the human remains and associated funerary objects to the Confederated Tribes of the Colville Reservation, Washington; Confederated Tribes of the Umatilla Indian Reservation, Oregon; Confederated Tribes and Bands of the Yakama Nation, Washington; and Nez Perce Tribe, Idaho may proceed after that date if no additional claimants come forward. The U.S. Department of Defense, Army Corps of Engineers, Walla Walla District acknowledges the participation of the Wanapum Band, a non-Federally recognized Indian group, in the transfer of the human remains and associated funerary objects to the Federally-recognized Indian tribes.

The U.S. Department of Defense, Army Corps of Engineers, Walla Walla District is responsible for notifying the Confederated Tribes of the Colville Reservation, Washington; Confederated Tribes of the Umatilla Indian Reservation, Oregon; Confederated Tribes and Bands of the Yakama Nation, Washington; Nez Perce Tribe, Idaho; and the Wanapum Band, a non-Federally recognized Indian group, that this notice has been published.

Dated: July 29, 2009.
Sherry Hutt,
Manager, National NAGPRA Program.

[FR Doc. E9-20039 Filed 8-19-09; 8:45 am]

BILLING CODE 4312-50-S